DEPARTMENT OF TRANSPORTATION

Federal Aviation Administration

Notice of Intent To Rule on Application #03-05-C-00-FLL To Impose and Use the Revenue From a Passenger Facility Charge (PFC) at Fort Lauderdale International Airport, Fort Lauderdale, FL

AGENCY: Federal Aviation Administration (FAA), DOT.

ACTION: Notice of intent to rule on application.

SUMMARY: This correction revises information from the previously published notice.

In notice document 03-10577 appearing on page 23173, in the issue of Wednesday, April 30, 2003, under Notice of Intent to Rule on Application, in the third column, in the 29th line, the Date of Letter of Completeness, should read, April 22, 2003.

In addition, on page 23174, in the first column, in the 3rd line, the Current Date, should read, April 22, 2003.

FOR FURTHER INFORMATION CONTACT: Matthew J. Thys, Assistant Manager, Orlando Airports District office, 5950 Hazeltine National Drive, Suite 400, Orlando, FL 32822, (407) 812-6331, extension 21.

Issued in Orlando, Florida on May 8, 2003.
W. Dean Stringer,
Manager, Orlando Airports District Office, Southern Region.

[FR Doc. 03-12382 Filed 5-16-03; 8:45 am]

BILLING CODE 4910-13-M